FEDERAL MARITIME COMMISSION

Notice of Agreements Filed

The Commission hereby gives notice of filing of the following agreements under the Shipping Act of 1984. Interested parties may submit comments, relevant information, or documents regarding the agreements to the Secretary by email at Secretary@fmc.gov, or by mail, Federal Maritime Commission, 800 North Capitol Street, Washington, DC 20573. Comments will be most helpful to the Commission if received within 12 days of the date this notice appears in the Federal Register, and the Commission requests that comments be submitted within 7 days on agreements that request expedited review. Copies of agreements are available through the Commission's website (www.fmc.gov) or by contacting the Office of Agreements at (202) 523-5793 or tradeanalysis@fmc.gov.

Agreement No.: 201400-001.

Agreement Name: HMM/ONE PSX Space Charter Agreement.

Parties: HMM Co., Ltd; Ocean Network Express Pte. Ltd.

Filing Party: Joshua Stein; Cozen O'Connor.

Synopsis: The Amendment extends the effectiveness of the agreement through March 31, 2025.

Proposed Effective Date: 2/16/2024.

Location: https://www2.fmc.gov/FMC.Agreements.Web/Public/AgreementHistory/77502.

Agreement No.: 201420.

Agreement Name: Sallaum/K Line Space Charter Agreement.

Parties: Kawasaki Kisen Kaisha, Ltd; Sallaum Lines SA.

Filing Party: Wayne Rohde; Cozen O'Connor.

Synopsis: The Agreement authorizes “K” Line to charter space from Sallaum in the trade between ports in Germany and ports on the East Coast of the United States.

Proposed Effective Date: 2/16/2024.

Location: https://www2.fmc.gov/FMC.Agreements.Web/Public/AgreementHistory/86547.

Dated: February 23, 2024.
Carl Savoy,
Federal Register Alternate Liaison Officer.

[FR Doc. 2024-04137 Filed 2-27-24; 8:45 am]

BILLING CODE 6730-02-P